SMALL BUSINESS ADMINISTRATION

[Declaration of Disaster #P040; Amdt. #2]

State of Arkansas

In accordance with a notice received from the Department of Homeland Security—Federal Emergency Management Agency, effective July 9, 2004, the above numbered declaration is hereby amended to include Benton and Franklin Counties in the State of Arkansas as disaster areas due to damages caused by severe storms and flooding occurring on May 30, 2004, and continuing through July 9, 2004.

All other information remains the same, i.e., the deadline for filing applications for physical damage is August 30, 2004.

(Catalog of Federal Domestic Assistance Program Nos. 59008).
Dated: August 3, 2004.
Herbert L. Mitchell,
Associate Administrator for Disaster Assistance.

[FR Doc. 04-18095 Filed 8-6-04; 8:45 am]

BILLING CODE 8025-01-P